ENVIRONMENTAL PROTECTION AGENCY

40 CFR Part 98

[EPA-HQ-OAR-2009-0927; FRL-9150-9]

Mandatory Reporting of Greenhouse Gases: Notice of Data Availability; Default Emission Factors for Semiconductor Manufacturing Refined Process Categories

AGENCY: Environmental Protection Agency (EPA).

ACTION: Data availability and request for comment.

SUMMARY: The Environmental Protection Agency (EPA) is making available to the public draft default emission factors for semiconductor manufacturing refined process categories. On April 12, 2010 EPA published a proposed rule, Mandatory Reporting of Greenhouse Gases: Additional Sources of Fluorinated GHGs (75 FR 18652) which included proposed methods for monitoring and reporting greenhouse gases (GHGs) from electronics manufacturing. More specifically, as one option for monitoring and reporting, EPA proposed semiconductor manufacturers estimate emissions using default emission factors for nine distinct process categories. For each default emission factor, EPA proposed a range of values differentiated by production technology generation (i.e., wafer size). Based on additional information received since the publication of the proposed rule, EPA has developed draft emission factors for the proposed process categories. EPA is making those draft emission factors as well as the underlying data that was used to develop the draft emission factors available to the public for review and comment in the report, Draft Emission Factors for Refined Semiconductor Manufacturing Process Categories.

DATES: Comments must be received on or before June 14, 2010.

ADDRESSES: Submit your comments, identified by Docket ID No. EPA-HQ-OAR-2009-0927 by one of the following methods:

• http://www.regulations.gov: Follow the on-line instructions for submitting comments.

• E-mail: GHGReportingFGHG@epa.gov.

• Fax: (202) 566-1741.

• Mail: EPA Docket Center, Attention Docket OAR-2009-0927, Mail code 2822T, 1200 Pennsylvania Avenue, NW., Washington, DC 20460.

• Hand/Courier Delivery: EPA Docket Center, Public Reading Room, Room 3334, EPA West Building, Attention Docket OAR-2009-0927, 1301 Constitution Avenue, NW., Washington, DC 20004. Such deliveries are only accepted during the Docket's normal hours of operation, and special arrangements should be made for deliveries of boxed information.

Instructions: Direct your comments to Docket ID No. EPA-HQ-OAR-2009-0927. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at EPA's Docket Center, Public Reading Room, EPA West Building, Room 3334, 1301 Constitution Ave., NW., Washington, DC 20004. This Docket Facility is open from 8:30 a.m. to 4:30 p.m., Monday through Friday, excluding legal holidays. The telephone number for the Public Reading Room is (202) 566-1744, and the telephone number for the Air Docket is (202) 566-1742.

FOR FURTHER INFORMATION CONTACT: Kirsten Cappel, Climate Change Division, Office of Atmospheric Programs (MC-6207J), Environmental Protection Agency, 1200 Pennsylvania Ave., NW., Washington, DC 20460; telephone number: (202) 343-9556; fax number: (202) 343-2202; e-mail address: cappel.kirsten@epa.gov.

SUPPLEMENTARY INFORMATION:

Outline

1. What is today's action?

2. What information is EPA making available for review and comment?

3. How does this information relate to the proposed rule Mandatory Reporting of Greenhouse Gases: Additional Sources of Fluorinated GHGs?

4. Where can I get the information?

5. What is EPA taking comment on and what supporting documentation do I need to include in my comments?

6. What should I consider as I prepare my comments for EPA?

7. Submitting Confidential Business Information (CBI)

1. What is today's action?

This notice of data availability (NODA) provides for public review and comment draft emission factors for the nine proposed refined semiconductor process categories differentiated by production technology generation (i.e., wafer size). The draft emission factors are being made available in Draft Emission Factors for Refined Semiconductor Manufacturing Process Categories. In Draft Emission Factors for Refined Semiconductor Manufacturing Process Categories EPA also presents detailed information on how the draft emission factors were developed and the underlying data used to develop the draft emission factors.

2. What information is EPA making available for review and comment?

EPA is making available for review and comment draft default emission factors for semiconductor manufacturing refined process categories in Draft Emission Factors for Refined Semiconductor Manufacturing Process Categories. EPA is also making available to the public the underlying emissions measurement data that were used to develop the draft emission factors.

3. How does this information relate to the proposed rule Mandatory Reporting of Greenhouse Gases: Additional Sources of Fluorinated GHGs?

On April 12, 2010 EPA published a proposed rule (Mandatory Reporting of Greenhouse Gases: Additional Sources of Fluorinated GHGs (75 FR 18652)) revising and supplementing its initial proposed actions to require reporting of fluorinated greenhouse gas (fluorinated GHG) emissions from certain source categories.¹ In that rule EPA proposed requirements for monitoring and reporting GHG emissions from electronics manufacturing, which includes facilities that manufacture semiconductors, photovoltaic cells (PV), micro-electro-mechanical systems (MEMS), and liquid crystal displays (LCDs). For semiconductor manufacturing, as one option, EPA proposed a method based on a refined set of process categories. More specifically, EPA proposed nine process categories differentiated by wafer diameter sizes of 150 mm, 200 mm and 300 mm. For each of the nine proposed process categories, EPA proposed to establish default emission factors within a range of values. EPA used the term “NA” where currently available information did not exist to support a range. Within each process category, the emission factor ranges accounted for (1) the mass fraction of the input gas that is utilized during (i.e., not emitted from) the process and (2) the mass of each fluorinated GHG by-product formed as a fraction of the mass of the dominant fluorinated GHG input used. EPA proposed ranges because it had not yet received sufficient data to select a specific value within each range.

¹ EPA initially proposed monitoring and reporting methods for electronics manufacturing in Mandatory Reporting of Greenhouse Gases (74 FR 16448).

In its proposal, EPA requested comment on the nine process categories that were proposed. In particular, EPA requested comment on whether the categories should be further refined to better capture the variability in emission rates among fluorinated GHG using manufacturing activities (e.g., whether any additional categories should be added or whether the proposed categories should be combined, and the definition of those categories).

EPA also stated that if additional data were received in a timely fashion, EPA might develop draft emission factors for each category prior to the issuance of a final rule, differentiating among wafer sizes to the extent feasible. EPA noted that it would use a method of aggregation similar to the 2006 IPCC factor development methodology. EPA is making available, for public review and comment, draft emission factors for each of the nine proposed refined process categories in Draft Emission Factors for Refined Semiconductor Manufacturing Process Categories.

It is important to note that in addition to an approach where EPA would publish draft emission factors for the nine proposed process categories, in its proposal, EPA stated that it is considering other approaches for monitoring and reporting emissions from semiconductor manufacturing. Please refer to the Electronics Manufacturing section of the notice titled Mandatory Reporting of Greenhouse Gases: Additional Sources of Fluorinated GHGs (75 FR 18652) for a detailed discussion of the additional alternatives that EPA is considering for monitoring and reporting GHG emissions from semiconductor manufacturing.

4. Where can I get the information?

All of the information can be obtained through the Air Docket and at http://www.regulations.gov (see ADDRESSES section above for docket contact information).

5. What is EPA taking comment on and what supporting documentation do I need to include in my comments?

EPA requests comment on topics including, but not limited to the following:

• The representativeness and reliability of the draft emission factors for each process category based on measurements conducted. Where commenters provide data (i.e., emission measurement results), EPA encourages the submission of supporting information such as details of the method used to characterize process equipment emissions.

• The validity of applying 200 mm processing technology emission factors to 150 mm processing technology emission factors, and potential alternatives for drawing analogies for 150 mm processing technology emission factors. Where commenters provide data (e.g., emission factors), EPA encourages the submission of supporting information such as details of the method used to characterize process equipment emissions.

X Method used to form the draft emission factors, including EPA's method for averaging the factors that account for gas utilization and by-product formation for multi-gas chemistries.

X The potential merits and disadvantages of consolidating emission factors by process category across all wafer technologies and how EPA could weight emission factors collected from various wafer technology equipment.

X Number of significant figures to provide in emission factor tables for both gas utilization and by-product formation factors.

X Alternatives to the analogies EPA used to assign gas utilization and by-product formation factors when information for a gas or category is not currently available.

X The merits and disadvantages of maintaining three wafer-technology categories compared to combining them into a single category.

X The merits and disadvantages of reducing the number of etching categories from four to three (from oxide, nitride, silicon and metal etch to, for example, dielectric, silicon and metal etch categories), reducing the number of wafer cleaning categories from two to one, or reducing the number of categories for both etching and wafer cleaning.

6. What should I consider as I prepare my comments for EPA?

You may find the following suggestions helpful for preparing your comments:

1. Explain your views as clearly as possible.

2. Describe any assumptions that you used.

3. Provide any technical information or data you used that support your views.

4. Provide specific examples to illustrate your concerns.

5. Offer alternatives.

6. Make sure to submit your comments by the comment period deadline identified.

7. To ensure proper receipt by EPA, identify the appropriate docket identification number in the subject line on the first page of your response. It would also be helpful if you provided the name, date, and Federal Register citation related to your comments.

7. Submitting Confidential Business Information (CBI)

Do not submit information you are claiming as CBI to EPA through http://www.regulations.gov or e-mail. Clearly mark the part of the information that you claim to be CBI. Information so marked will not be disclosed except in accordance with procedures set forth in 40 CFR part 2. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket.

Dated: May 6, 2010.
Brian J. McLean,
Director, Office of Atmospheric Programs.

[FR Doc. 2010-11430 Filed 5-12-10; 8:45 am]

BILLING CODE 6560-50-P